DEPARTMENT OF HEALTH AND HUMAN SERVICES

Centers for Disease Control and Prevention

[60 Day-03-39]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: The National Tobacco Control Program (NTCP) Chronicle Progress Reporting System—New—National Center for Chronic Disease Prevention and Health Promotion (NCCDPHP), Centers for Disease Control and Prevention (CDC).

Background

Implementation of National Tobacco Control Program (NTCP) Chronicle: Progress Reporting System National Center for Chronic Disease Prevention and Health Promotion (NCCDPHP), Centers for Disease Control and Prevention (CDC). Tobacco use is the single most preventable cause of death and disease in the United States. Most people begin using tobacco in early adolescence. Tobacco use causes more than 430,000 deaths annually in the nation and costs approximately $50-70 billion in medical expenses alone. The Centers for Disease Control and Prevention's (CDC) Office on Smoking and Health (OSH) provides funding to health departments of states and territories to develop, implement and evaluate comprehensive Tobacco Control Programs (TCPs) based on CDC guidelines provided in Best Practices for Comprehensive Tobacco Control Programs-August 1999 (Atlanta, GA, HHS). TCPs are population-based, public health programs that design, implement and evaluate public health prevention and control strategies to reduce disease, disability and death related to tobacco use and to reach those communities most impacted by the burden of tobacco use (e.g., racial/ethnic populations, rural dwellers, and the economically disadvantaged). Support for these programs is a cornerstone of the OSH's strategy for reducing the burden of tobacco use throughout the nation. CDC, Office on Smoking and Health is authorized under sections 301 and 317(k) of the Public Health Service Act [42 U.S.C. section 241 and 247b(k)].

As outlined in 45 CFR Subtitle A, section 92.40, funding recipients are required to submit twice yearly progress reports to CDC. These reports are used by both the Procurement and Grants Office (PGO) to monitor program compliance, and by OSH managers and Project Officers (POs) to identify training and technical assistance needs; monitor compliance with cooperative agreement requirements; evaluate the progress made in achieving national and program-specific goals; and respond to inquiries regarding program activities and effectiveness. Funding recipients currently have a wide latitude in the content of the information they report with some recipients providing extensive and detailed programmatic information and others providing minimal detail regarding TCP operations. Historically, information has been collected and transmitted via hard-copy paper document. The manual reporting system significantly impacts the OSH's staff ability to accomplish its responsibilities resulting from providing TCP funds, particularly with respect to compiling, summarizing and reporting aggregate TCP program information.

In responding to the federal government's E-Government initiative, the proposed change in progress report collection methodology is driven by OSH's development of an electronic progress reporting system to collect state TCP information. The proposed reporting system will utilize a more formal, systematic method of collecting information that has historically been requested from individual TCPs and will standardize the content of this information. This will facilitate OSH staff's ability to fulfill its obligations under the cooperative agreements; to monitor, evaluate and compare individual programs; and to assess and report aggregate information regarding the overall effectiveness of OSH's National Tobacco Control Program (NTCP). It will also support OSH's broader mission of reducing the burden of tobacco use by enabling OSH staff to more effectively identify the strengths and weaknesses of individual TCPs; to identify the strength of national movement toward reaching the goals specified in Healthy People 2010; and to disseminate information related to successful public health interventions implemented by these organizations to prevent and control the burden of tobacco use. The OSH anticipates that the state burden of providing hard-copy reports will be reduced with the introduction of the web-based progress reporting system. It is assumed that states will experience a learning curve in using this application, and the reported burden will be reduced once they have familiarized themselves with this system. The only cost to respondents is the time required to complete the web-based progress reports.

Respondents | Number of respondents | Number of responses per respondent | Average burden per respondent (in hours) | Total burden (in hours)
States and DC | 51 | 2 | 6 | 612
Totals |  |  |  | 612

Dated: January 21, 2003.
Thomas Bartenfeld,
Acting Associate Director for Policy, Planning and Evaluation, Centers for Disease Control and Prevention.

[FR Doc. 03-1975 Filed 1-28-03; 8:45 am]

BILLING CODE 4163-18-P